DEPARTMENT OF JUSTICE

Notice of Lodging of Consent Decree Under the Clean Water Act

On January 24, 2024, the Department of Justice lodged a proposed Fourth Amendment of the Consent Decree with the United States District Court for the Eastern District of Pennsylvania in the lawsuit entitled United States and Commonwealth of Pennsylvania v. City of Reading, Civil Action No. 04-05696.

The United States' Complaint and the Commonwealth's Complaint in intervention alleged, inter alia, that the City of Reading Wastewater Treatment Plant (“Reading”) violated its National Pollutant Discharge Elimination System permits, the Clean Water Act, and the Pennsylvania Clean Streams law by discharging pollutants into the Schuylkill River in violation of various effluent limits, and that Reading failed to enforce the requirements of its pretreatment program for industrial users and failed to properly operate and maintain its wastewater treatment plant and systems.

In 2005, the parties entered into a Consent Decree to resolve the United States' and the Commonwealth's claims. Among other things, the Consent Decree established a process to return the City of Reading to NPDES compliance, including required capital improvements to its wastewater treatment plant. The process of new construction and significantly updating and overhauling existing infrastructure has been underway since the Consent Decree was originally entered. Many of the required tasks have been completed or are substantially complete, but some remain outstanding.

The parties to the Consent Decree have agreed to certain modifications set forth in the Fourth Amendment to the Decree. The Fourth Amendment extends the deadlines for completing remaining capital improvement projects because of delays that have occurred in the process of designing, seeking bids for, entering into contracts for, securing materials for, and completing construction on the remaining projects. In particular, Reading experienced delays due to social-distancing-related limitations on staffing and delays in manufacturing due to shutdowns and supply chain delays, and expects that the remaining projects will have some level of delays due to these ongoing issues.

The publication of this notice opens a period for public comment on the proposed Fourth Amendment of the Consent Decree. Comments should be addressed to the Assistant Attorney General, Environment and Natural Resources Division, and should refer to United States and Commonwealth of Pennsylvania v. City of Reading, D.J. Ref. No. 90-5-1-1-07869/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Fourth Amendment of the Consent Decree may be examined and downloaded at this Justice Department website: https://www.justice.gov/enrd/consent-decrees. We will provide a paper copy of the Fourth Amendment upon written request and payment of reproduction costs. Please mail your request and payment to: Consent Decree Library, U.S. DOJ—ENRD, P.O. Box 7611, Washington, DC 20044-7611.

Please enclose a check or money order for $4.00 (25 cents per page reproduction cost) payable to the United States Treasury.

Jeffrey Sands,
Assistant Section Chief, Environmental Enforcement Section, Environment and Natural Resources Division.

[FR Doc. 2024-01883 Filed 1-30-24; 8:45 am]

BILLING CODE 4410-15-P